DEPARTMENT OF COMMERCE

National Oceanic and Atmospheric Administration

[RTID 0648-XB886]

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application from Pioneers for a Thoughtful Coexistence, Inc. contains all the required information and warrants further consideration. Regulations under the Magnuson-Stevens Fishery Conservation and Management Act and the Atlantic Coastal Fisheries Cooperative Management Act require publication of this notice to provide interested parties the opportunity to comment on applications for proposed Exempted Fishing Permits.

DATES: Comments must be received on or before April 4, 2022.

ADDRESSES: You may submit written comments by any of the following methods:

• Email: NMFS.GAR.EFP@noaa.gov. Include in the subject line “Comments on Pioneers Ropeless Fishing EFP.” If you are unable to submit comments via the above email, please contact Laura Hansen at (978) 281-9225, or email at Laura.Hansen@noaa.gov.

FOR FURTHER INFORMATION CONTACT: Laura Hansen, Fishery Management Specialist, (978) 281-9225.

SUPPLEMENTARY INFORMATION: Pioneers for a Thoughtful Coexistence Inc. (Pionners), in collaboration with the Northeaster Fisheries Science Center (NEFSC) submitted a complete application for an Exempted Fishing Permit (EFP) on December 20, 2021, to conduct a ropeless lobster gear testing project. Pioneers is requesting an exemption from Federal lobster regulations that would authorize three federally permitted commercial lobster vessels to participate in a ropeless lobster gear study in the Massachusetts Bay Restricted Area (MBRA). Pioneers is requesting an exemption from gear marking requirements at 50 CFR 697.21(b)(2) to allow for the use of no surface markers on a trawl of more than three traps.

The purpose of this study is to test real-world use of acoustic-release systems that would reduce the risk of entangling protected species, including the North Atlantic right whale.

The EFP would authorize three federally permitted lobster vessels to modify some of their existing trawls to use “on-demand access” technology for the retrieval of the gear. Each vessel would use 10 sets of acoustic releases and equipment to fish 10, 20-pot trawls each. Experimental trawls would either have a rope spool, a buoy and stowed rope system, or a lift bag system fitted with an acoustic release, deployed on one end of the trawl. One vessel would have 5 of the 10 trawls fixed with acoustic releases on both ends of the trawl. Two state-permitted vessels would also participate in the study exclusively in state waters of the MBRA, and do not require Federal EFPs. Participating vessels would be testing gear in discrete areas in the MBRA that were selected by the applicant based on their claim of limited historical right whale usage, desired bottom composition, minimal gear conflict exposure, and history of viable fishing grounds. NEFSC and project participants have been working to develop and test ropeless gear technology since 2019. To date, there have been no premature releases of the gear. Smart Buoy technology would be used to send an automated electronic notification to an email list within approximately 20 minutes of surfacing in the event of an unintended release. The mail list includes the Principal Investigator, Lori Caron, and Eric Matzen, NEFSC, who would immediately notify enforcement and any on-the-water marine patrol, research, and/or rescue efforts. Positioning will be tracked in real time and recovery would occur as soon as possible. The gear would be transported ashore for assessment. For a map of the areas where sampling would occur, please see Figure 1.

Soak time would be no longer than 14 days, gear retrieval would be limited to daylight hours, and gear would not be set or retrieved when right whales are in close proximity, to further minimize any potential interactions with right whales. Sampling would occur from the date the permit is issued, through the end of the closure on April 30, 2022. Pioneers estimated that there would be approximately 117 hauls of the ropeless gear. Data would be collected with data sheets developed by the NEFSC to ensure consistency among and between different ropeless fishing projects. This project would also collect whale sighting data. NEFSC staff would assist with data recording, when available. The outcome of this project would be to inform discussions on the utility of ropeless gear to allow potential fishing access to vertical line closure areas.

Participants would adhere to additional precautions to mitigate concerns regarding enforcement, gear identification and retrieval, and protected species interactions including:

• Unique marking of ground lines and on-demand vertical lines beyond the regional requirements and the on-demand vertical line would be supervised while in the water column at all times;

• Unique flag would be flown by participating vessels for enforcement recognition;

• Weekly mandatory gear loss and gear conflict reporting;

• Stored vertical lines would be enhanced with weak links every 40 feet and are designed to break at less than 1700 lb (771 kg);

• Participating vessels would operate at a 10-knot (18.5 kph) speed limit and, if within a 500 yard (457.2 m) buffer zone of a surfacing right whale, would immediately depart the area at a safe, slow speed;

• Weekly communication with Massachusetts Division of Marine Fisheries and NEFSC on project activities; and,

• Use of the Trap Tracker application for retrieval and set positioning of trawls. This information would be accessible to Federal, state, and corresponding enforcement personnel, as requested.

If approved, the applicant may request minor modifications and extensions to the EFP throughout the year. We may grant EFP modifications and extensions without further notice if they are deemed essential to facilitate completion of the proposed research and have minimal impacts that do not change the scope or impact of the initially approved EFP request. The EFP would prohibit any fishing activity conducted outside the scope of the exempted fishing activities.

Authority: 16 U.S.C. 1801 et seq.

Dated: March 15, 2022.
Ngagne Jafnar Gueye,
Acting Director, Office of Sustainable Fisheries, National Marine Fisheries Service.

[FR Doc. 2022-05765 Filed 3-17-22; 8:45 am]

BILLING CODE 3510-22-P